DEPARTMENT OF THE INTERIOR

Bureau of Land Management

[CA-680-1430-ES; CA-46857]

Notice of Realty Action; Recreation and Public Purposes Act Classification; California

AGENCY: Bureau of Land Management, Interior.

ACTION: Notice of Realty Action.

SUMMARY: The Bureau of Land Management (BLM) has examined and found suitable for classification for lease and subsequent conveyance under the provisions of the Recreation and Public Purposes Act (R&PP), as amended (43 U.S.C. 869 et seq.), approximately 2.5 acres of public land in Inyo County, California. The Southern Inyo County Fire Protection District proposes to use the land for a fire station and related facilities to include a water well with storage tanks, a helipad, two shade structures, two storage buildings, and a septic system enclosed within a chain link fence, as specified in the County's development plan (henceforth, fire station).

DATES: For a period until September 22, 2006, interested parties may submit comments to the Field Manager, BLM Barstow Field Office, at the address below.

ADDRESSES: Bureau of Land Management, Barstow Field Office, 2601 Barstow Road, Barstow, California 92311.

FOR FURTHER INFORMATION CONTACT: Richard Rotte, Realty Specialist, BLM Barstow Field Office, (760) 252-6026.

SUPPLEMENTARY INFORMATION: The Southern Inyo County Fire Protection District filed an R&PP application for the classification, lease, and subsequent conveyance of the following described 2.5 acres of public land to be developed for a fire station:

San Bernardino Meridian, California

T. 20 N., R. 7 E.,

Sec. 11, SE¼NW¼SW¼SW¼.

The area described contains 2.5 acres, more or less, in Inyo County.

Leasing and subsequent conveyance of the land to the Southern Inyo County Fire Protection District is consistent with current Bureau planning for this area and would be in the public interest. The land is not needed for any Federal purpose. The lease would be issued for an initial term of 10 years to allow sufficient time to develop the planned facilities. The land would be conveyed after substantial development has occurred on the land. The lease and subsequent patent, if issued, will be subject to the provisions of the R&PP Act and applicable regulations of the Secretary of the Interior, and will be subject to the following terms, conditions, and reservations:

1. A right-of-way thereon for ditches or canals constructed by the authority of the United States pursuant to the Act of August 30, 1890 (43 U.S.C. 945).

2. All minerals shall be reserved to the United States, together with the right to prospect for, mine, and remove the minerals under applicable laws and regulations established by the Secretary of the Interior.

3. Those rights for a power transmission line granted by right-of-way R 01247 to Southern California Edison Company.

4. All valid existing rights.

5. Provisions of the R&PP Act and all applicable regulations of the Secretary of the Interior.

6. The lessee/patentee, its successors or assigns, by accepting a lease/patent, agrees to indemnify, defend, and hold the United States, its officers, agents, representatives, and employees (hereinafter “United States”) harmless from any costs, damages, claims, causes of action, penalties, fines, liabilities, and judgments of any kind or nature arising out of or in connection with the lessee's/patentee's use, occupancy, or operations on the leased/patented real property. This indemnification and hold harmless agreement includes, but is not limited to, acts or omissions of the lessee/patentee and its employees, agents, contractors, lessees, or any third-party arising out of or in connection with the lessee's/patentee's use, occupancy, or operations on the leased/patented real property which cause or give rise to, in whole or in part: (1) Violations of Federal, state, and local laws and regulations that are now, or may in future become, applicable to the real property and/or applicable to the use, occupancy, and/or operations thereon; (2) Judgments, claims, or demands of any kind assessed against the United States; (3) Costs, expenses, or damages of any kind incurred by the United States; (4) Releases or threatened releases of solid or hazardous waste(s) and/or hazardous substance(s), pollutant(s), or contaminant(s), and/or petroleum product or derivative of a petroleum product, as defined by Federal and state environmental laws, off, on, into, or under land, property, and other interests of the United States; (5) other activities by which solid or hazardous substance(s) or waste(s), pollutant(s), or contaminant(s), or petroleum product or derivative of a petroleum product as defined by Federal and state environmental laws, are generated, stored, used, or otherwise disposed of on the leased/patented real property, and any cleanup response, remedial action, or other actions related in any manner to the said solid or hazardous substance(s) or waste(s), pollutant(s), or contaminant(s), or petroleum product or derivative of a petroleum product; (6) Natural resource damages as defined by Federal and state laws. Lessee/Patentee shall stipulate that it will be solely responsible for compliance with all applicable Federal, state, and local environmental laws and regulatory provisions throughout the life of the facility, including any closure and/or post-closure requirements that may be imposed with respect to any physical plant and/or facility upon the real property under any Federal, state, or local environmental laws or regulatory provisions. In the case of a patent being issued, this covenant shall be construed as running with the patented real property and may be enforced by the United States in a court of competent jurisdiction.

Upon publication of this notice in the Federal Register, the public lands described above are segregated from all forms of appropriation under the public land laws, including the general mining laws and leasing under the mineral leasing laws, except for lease/conveyance under the Recreation and Public Purposes Act. Interested parties may submit comments regarding the proposed lease/conveyance or classification of the lands until September 22, 2006.

Classification Comments: Interested parties may submit comments involving the suitability of the land for a fire station. Comments on the classification are restricted to whether the land is physically suited for the proposal or any other issues that would be pertinent to the environmental (National Environmental Policy Act of 1969) analysis for this action, whether the use will maximize the future use or uses of the land, whether the use is consistent with local planning and zoning, or if the use is consistent with State and Federal programs.

Application Comments: Interested parties may submit comments regarding the specific use proposed in the application and plan of development, whether the BLM followed proper administrative procedures in reaching its classification decision, or any other factor not directly related to the suitability of the land for R&PP use as a fire station.

All submissions from organizations or businesses will be made available for public inspection in their entirety. Individuals may request confidentiality with respect to their name, address, and phone number. If you wish to have your name or street address withheld from public review, or from disclosure under the Freedom of Information Act, the first line of the comment should start with the words “Confidentiality Request” in uppercase letters in order for BLM to comply with your request. Such requests will be honored to the extent allowed by law. Comment contents will not be kept confidential.

Any adverse comments will be reviewed by the State Director, who may sustain, vacate, or modify this realty action. In the absence of any adverse comments, the classification of the land described in this notice will become effective on October 10, 2006. The lands will not be available for lease/conveyance until after the classification becomes effective.

(Authority: 43 CFR 2741.5)

Dated: July 19, 2006.
Roxie C. Trost,
Field Manager, Barstow Field Office.

[FR Doc. E6-12795 Filed 8-7-06; 8:45 am]

BILLING CODE 4310-40-P